FEDERAL COMMUNICATIONS COMMISSION

Notice of Public Information Collection(s) Being Submitted for Review to the Office of Management and Budget

November 22, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 5, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@eop.omb.gov and to Judith-B.Herman@fcc.gov, Federal Communications Commission, Room 1-B441, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0307.

Title: Amendment of Part 90 of the Commission's Rules to Facilitate Development of SMR Systems in the 800 MHz Frequency Band.

Form No.: N/A.

Type of Review: Revision of a currently approved collection.

Respondents: Business or other for-profit, not-for-profit institutions, and state, local or tribal government.

Number of Respondents: 1,042 respondents; 1,042 responses.

Estimated Time Per Response: 2-4.5 hours.

Frequency of Response: On occasion reporting requirement and third party disclosure requirement.

Obligation to Respond: Required to obtain or retain benefits.

Total Annual Burden: 524 hours.

Total Annual Cost: $304,313.

Privacy Act Impact Assessment: N/A.

Nature and Extent of Confidentiality: There is no need for confidentiality.

Needs and Uses: The Commission will submit this information collection to OMB as a revision after this 60 day comment period to obtain the full three-year clearance from them. The Commission has revised this collection because on July 22, 2005, the Commission adopted a Report and Order and Further Notice of Proposed Rulemaking (20 FCC Rcd 16293) to streamline and harmonize licensing provisions in the wireless radio services pursuant to biennial regulatory review responsibilities. The Commission modified section 90.693 (47 CFR 90.693) of its rules to eliminate the necessity of incumbent 800 MHz Specialized Mobile Radio (SMR) licensees filing notifications of minor modifications in certain circumstances. Specifically, notification of minor modifications is no longer required where a license locates its facilities closer than the minimum required distance separation but nonetheless falls within the parameters of the Short Spacing Separation Table under Commission rule section 47 CFR 90.621. The information will be used by the Commission for the following purposes: (a) To update the Commission's licensing data base and thereby facilitate the successful coexistence of Economic Areas (EA) licensees and incumbents in the 800 MHz SMR band; and (b) to determine whether an applicant is eligible for special provisions for small businesses provided for applicants in the 800 MHz service.

Federal Communications Commission.
Marlene H. Dortch,
Secretary.

[FR Doc. E6-20447 Filed 12-5-06; 8:45 am]

BILLING CODE 6712-01-P